DEPARTMENT OF TRANSPORTATION

Federal Railroad Administration

Environmental Impact Statement: Rail Corridor—Petersburg, Virginia (Collier Yard) to Raleigh, North Carolina (Boylan Wye)

AGENCY: Federal Railroad Administration (FRA), Department of Transportation (DOT).

ACTION: Notice of intent to prepare an Environmental Impact Statement.

SUMMARY: The FRA is issuing this notice to advise the public that a Tier II Environmental Impact Statement (EIS) will be prepared for a 138-mile portion of the Southeast High Speed Rail (SEHSR) Corridor from Petersburg, Virginia (Collier Yard) to Raleigh, North Carolina (Boylan Wye).

FOR FURTHER INFORMATION CONTACT: Mr. David Foster, Rail Environmental Programs Manager, North Carolina Department of Transportation Rail Division, 1553 Mail Service Center, Raleigh, NC, 27699-1553, telephone (919) 508-1917; or Mr. David Valenstein, Environmental Program Manager, Federal Railroad Administration (FRA), 400 Seventh Street, SW., MS 20, Washington, DC 20590, telephone (202) 493-6368.

SUPPLEMENTARY INFORMATION: The FRA, in cooperation with the Federal Highway Administration (FHWA), the North Carolina Department of Transportation (NCDOT), and the Virginia Department of Rail and Public Transportation (VDRPT), will prepare a Tier II Environmental Impact Statement for a 138-mile portion of the SEHSR Corridor from Petersburg, Virginia at Collier Yard to Raleigh, North Carolina at the Boylan Wye. This study will evaluate alternatives and environmental impacts within the preferred corridor (Alternative A) described in the Tier I Record of Decision for the SEHSR Corridor from Washington, DC to Charlotte, North Carolina. The study corridor generally follows the Burgess Connector rail line from Collier Yard to Burgess, Virginia and the former Seaboard Air Line (S-line) from Burgess to Raleigh, North Carolina.

Multiple options within the preferred corridor exist to connect the S-line from Burgess to Main Street Station in Richmond, Virginia, which is the destination for intercity rail service in this segment of the SEHSR Corridor. VDRPT and the FRA propose to address options in this area in separate environmental documentation to be prepared prior to construction of the SEHSR between Richmond, Virginia and Raleigh, North Carolina. Different routings are possible through Petersburg and capacity issues exist on the A-line particularly crossing the Appomattox River would be considered in the separate documentation.

This environmental process has four basic goals: (1) Reiterate the purpose and need as established in the Tier I EIS for the Washington DC to Charlotte NC portion of the SEHSR corridor; (2) develop alternatives within the study corridor; (3) conduct a detailed evaluation of environmental impacts for the alternatives; and (4) select a preferred alternative.

Scoping and Comments: FRA encourages broad participation in the EIS process during scoping and subsequent review of the resulting environmental documents. Comments and suggestions are invited from all interested agencies and the public at large to insure the full range of issues related to the proposed action and all reasonable alternatives are addressed and all significant issues are identified. Public agencies with jurisdiction are requested to advise the FRA and NCDOT of the applicable permit and environmental review requirements of each agency, and the scope and content of the environmental information that is germane to the agency's statutory responsibilities in connection with the proposed improvements. Agency scoping meetings have been scheduled for June 17 and 18, 2003 at the following locations:

• June 17, 10:30 am, VDRPT Executive Conference Room, 1313 East Main Street, Suite 300, Richmond, VA.

• June 18, 10:00 am, NCDOT Photogrammetry Conference Room, Room 322-A, 1020 Birch Ridge Drive, Building B, Raleigh, NC.

Letters describing the proposed action and soliciting comments will be sent to appropriate Federal, State, and local agencies in North Carolina and Virginia. An iterative public involvement/information program will support the process. The program will involve newsletters, a project hotline, informational workshops, small group meetings, and other methods to solicit and incorporate public input throughout the planning process.

Comments and questions concerning the proposed action should be directed to NCDOT or to the FRA at the addresses provided above. Additional information can be obtained by visiting the project Web site at http://www.sehsr.org or calling the toll-free project number 1-877-749-RAIL (7245).

Issued in Washington DC on May 15, 2003.
Mark E. Yachmetz,
Associate Administrator for Railroad Development.

[FR Doc. 03-12812 Filed 5-21-03; 8:45 am]

BILLING CODE 4910-06-P